DEPARTMENT OF ENERGY

Federal Energy Regulatory Commission

Combined Notice of Filings #1

August 28, 2009.

Take notice that the Commission received the following exempt wholesale generator filings:

Docket Numbers: EG09-90-000.

Applicants: BP Wind Energy North America Inc.

Description: Notice of Self-Certification of BP Wind Energy North America Inc. as an Exempt Wholesale Generator.

Filed Date: 08/28/2009.

Accession Number: 20090828-5039.

Comment Date: 5 p.m. Eastern Time on Friday, September 18, 2009.

Take notice that the Commission received the following electric rate filings:

Docket Numbers: ER99-1435-020.

Applicants: Avista Corporation.

Description: Avista Corporations submits its compliance filing as required by Order 697.

Filed Date: 08/27/2009.

Accession Number: 20090828-0060.

Comment Date: 5 p.m. Eastern Time on Thursday, September 17, 2009.

Docket Numbers: ER09-1367-001.

Applicants: MidAmerican Energy Company.

Description: MidAmerican Energy Co submits a substitute to the 6/29/09 Facilities Agreement with ITC Midwest, LLC.

Filed Date: 08/27/2009.

Accession Number: 20090827-0052.

Comment Date: 5 p.m. Eastern Time on Thursday, September 17, 2009.

Docket Numbers: ER09-1423-002.

Applicants: Verde Energy USA, Inc.

Description: Verde Energy USA, Inc submits Substitute Original Sheet 1.

Filed Date: 08/28/2009.

Accession Number: 20090828-0133.

Comment Date: 5 p.m. Eastern Time on Friday, September 04, 2009.

Docket Numbers: ER09-1617-001.

Applicants: Midwest Independent Transmission System Operator, Inc

Description: Midwest Independent Transmission System Operator, Inc submits an amended and restated version of the Interconnection Agreement.

Filed Date: 08/27/2009.

Accession Number: 20090828-0139.

Comment Date: 5 p.m. Eastern Time on Thursday, September 17, 2009.

Take notice that the Commission received the following electric securities filings:

Docket Numbers: ES09-49-000.

Applicants: Old Dominion Electric Cooperative, Inc.

Description: Application for Authorization to Issue Debt Under Section 204(a) of the Federal Power Act and for Exemption from the Commission's Competitive Bidding Requirements under Section 34.2 of Old Dominion Electric Cooperative.

Filed Date: 08/27/2009.

Accession Number: 20090827-5079.

Comment Date: 5 p.m. Eastern Time on Thursday, September 17, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E9-21491 Filed 9-4-09; 8:45 am]

BILLING CODE 6717-01-P